DEPARTMENT OF COMMERCE

Foreign-Trade Zones Board

[B-79-2021]

Foreign-Trade Zone (FTZ) 138—Columbus, Ohio; Notification of Proposed Production Activity; Fluvitex USA, Inc. (Quilts, Comforters and Cushions) Groveport, Ohio

Fluvitex USA, Inc., submitted a notification of proposed production activity to the FTZ Board (the Board) for its facility in Groveport, Ohio under FTZ 138. The notification conforming to the requirements of the Board's regulations (15 CFR 400.22) was received on November 23, 2021.

Pursuant to 15 CFR 400.14(b), FTZ production activity would be limited to the specific foreign-status materials and specific finished products described in the submitted notification (summarized below) and subsequently authorized by the Board. The benefits that may stem from conducting production activity under FTZ procedures are explained in the background section of the Board's website—accessible via www.trade.gov/ftz.

The proposed finished products include: Plain cotton quilts and comforters; other quilts and comforters; cotton pillows and cushions; and, non-cotton pillows and cushions (duty rate ranges from 4.4% to 12.8%).

The proposed foreign-status materials include: Recycled hollow conjugated and siliconized 100% polyester fiber—64mm cut length, density 7 deniers, 32mm cut length, density 7 deniers and 64mm cut length, density 15 deniers; recycled polyester microfiber—32mm cut length, 0.9 deniers and 10mm cut length, 6.1 decitex; lyocell fibers, 60mm cut length, 6.7 deniers; STRA FABRIC—recycled 65% polyester 35% cotton blend fabric (bleached and dyed)—construction is yarn number 45 (mass divided per unit length) warp × 45 weft, 110 threads per inch (warp) and 76 threads per inch (weft), generates a weight of 100 grams per square meter; PLUS FABRIC and PLUS DOTS FABRIC—55% tencel-natural fiber: viscose and 45% cotton blend (non-printed and printed fabric)—construction is yarn number 40 warp × 40 weft, 140 threads per inch (warp) and 96 threads per inch (weft), construction generates a weight of 140 grams per square meter; 100% polyester fabric; 100% polypropylene nonwoven fabric; 100% polyester pillow covers; sac/bags of cotton for packing of certain pillows; cotton pillow covers; cotton pillow shells; polyester pillow shells; and, polybags (duty rate ranges from duty-free to 14.9%). The request indicates that certain materials are subject to duties under Section 301 of the Trade Act of 1974 (Section 301), depending on the country of origin. The applicable and Section 301 decisions require subject merchandise to be admitted to FTZs in privileged foreign status (19 CFR 146.41).

Public comment is invited from interested parties. Submissions shall be addressed to the Board's Executive Secretary and sent to: ftz@trade.gov. The closing period for their receipt January 10, 2022.

A copy of the notification will be available for public inspection in the “Online FTZ Information System” section of the Board's website.

For further information, contact Christopher Wedderburn at Chris.Wedderburn@trade.gov.

Dated: November 24, 2021.
Elizabeth Whiteman,
Acting Executive Secretary.

[FR Doc. 2021-26051 Filed 11-29-21; 8:45 am]

BILLING CODE 3510-DS-P